FEDERAL COMMUNICATIONS COMMISSION

47 CFR Part 73

[DA 00-920; MM Docket No. 99-103; RM-9506; RM-9829]

Radio Broadcasting Services; Bayfield, CO and Teec Nos Pos, AZ

AGENCY: Federal Communications Commission.

ACTION: Final rule.

SUMMARY: This document allots Channel 223A, in lieu of previously proposed Channel 237A, to Bayfield, Colorado, as an additional local FM transmission service at that community in response to a petition for rule making filed by Mountain West Broadcasting (RM-9506). See 64 FR 17141, April 8, 1999. Additionally, Channel 237C1 is allotted to Teec Nos Pos, Arizona, as that community's first local aural transmission service, in response to a counterproposal filed on behalf of Voice Ministries of Farmington, Inc. (RM-9829). Coordinates used for Channel 223A at Bayfield, Colorado, are 37-07-29 NL; 107-34-10 WL; coordinates used for Channel 237C1 at Teec Nos Pos, Arizona, are 36-54-36 NL; 109-06-00 WL.

DATES: Effective June 9, 2000. A filing window period for Channel 223A at Bayfield, Colorado, and for Channel 237C1 at Teec Nos Pos, Arizona, will not be opened at this time. Instead, the issue of opening a filing window for those channels will be addressed by the Commission in a subsequent Order.

FOR FURTHER INFORMATION CONTACT: Nancy Joyner, Mass Media Bureau, (202) 418-2180. Questions related to the application filing process should be addressed to the Audio Services Division, (202) 418-2700.

SUPPLEMENTARY INFORMATION: This is a synopsis of the Commission's Report and Order, MM Docket No. 99-103, adopted April 19, 2000, and released April 25, 2000. The full text of this Commission decision is available for inspection and copying during normal business hours in the FCC's Reference Information Center (Room CY-A257), 445 Twelfth Street, SW., Washington, DC. The complete text of this decision may also be purchased from the Commission's copy contractor, International Transcription Service, Inc., 1231 20th Street, NW., Washington, DC 20036, (202) 857-3800.

List of Subjects in 47 CFR Part 73

Radio broadcasting.

Part 73 of Title 47 of the Code of Federal Regulations is amended as follows:

PART 73—[AMENDED]

1. The authority citation for part 73 continues to read as follows:

Authority: 47 U.S.C. 154, 303, 334, 336.

§ 73.202 [Amended]

2. Section 73.202(b), the Table of FM Allotments under Arizona, is amended by adding Teec Nos Pos, Channel 237C1.

3. Section 73.202(b), the Table of FM Allotments under Colorado, is amended by adding Bayfield, Channel 223A.

Federal Communications Commission.
John A. Karousos,
Chief, Allocations Branch, Policy and Rules Division, Mass Media Bureau.

[FR Doc. 00-13135 Filed 5-24-00; 8:45 am]

BILLING CODE 6712-01-P